MILITARY COMPENSATION AND RETIREMENT MODERNIZATION COMMISSION

Solicitation of Written Comments by the Military Compensation and Retirement Modernization Commission; Correction

AGENCY: Military Compensation and Retirement Modernization Commission.

ACTION: Notice; correction.

SUMMARY: The Commission published a document in the Federal Register of October 1, 2013, concerning request for comments on measures to modernize the military compensation and retirement systems. The document contained an incorrect telephone number.

FOR FURTHER INFORMATION CONTACT: Christopher Nuneviller, 703-692-2080.

Correction

In the Federal Register of October 1, 2013, in FR Doc. 2013-23969, on page 60243, in the first column, correct the information under the caption FOR FURTHER INFORMATION CONTACT to read:

FOR FURTHER INFORMATION CONTACT:Christopher Nuneviller, Associate Director Military Compensation and Retirement Modernization Commission, P.O. Box 13170. Arlington, VA 22209, telephone 703-692-2080, fax 703-697-8330, email christopher.nuneviller@mcrmc.gov.

Dated: October 17, 2013.
Christopher Nuneviller,
Associate Director, Military Compensation and Retirement Modernization Commission.

[FR Doc. 2013-26341 Filed 11-1-13; 8:45 am]

BILLING CODE P